SURFACE TRANSPORTATION BOARD

[Docket No. AB 1009 (Sub-No. 1X)]

Mission Mountain Railroad, L.L.C.—Discontinuance of Service Exemption—in Flathead County, Mont.

On June 5, 2017, Mission Mountain Railroad, L.L.C. (MMT), filed with the Board a petition under 49 U.S.C. 10502 for exemption from the prior approval requirements of 49 U.S.C. 10903 to discontinue its lease operations over approximately 2.7 miles of rail line owned by BNSF Railway Company (BNSF) in Flathead County, Mont. (the Line). The Line is located from milepost 1225.19 to milepost 1227.58 and from milepost 1226.91 to Engineering Station 189+36 (milepost 1227.10) in Kalispell, Mont. and traverses United States Postal Service Zip Code 59901.¹

¹ BNSF is seeking to abandon the Line in BNSF Railway—Abandonment Exemption—in Flathead County, Mont., Docket No. AB 6 (Sub-No. 495X). According to MMT, the customers do not oppose the abandonment.

MMT states that based on information in BNSF's possession, the Line does not contain any federally granted rights-of-way. It states that any documentation in MMT's possession will be made available to those requesting it.

MMT states that it began operating over the Line in December 2004 ² and since that time has provided service to two customers located on the Line. MMT represents that the two customers on the Line do not oppose the discontinuance of service because they will be relocated to Glacier Rail Park.

² MMT states that it acquired authority to lease a line of rail including the Line in January 2005. See Mission Mountain R.R.—Acquis. & Lease Exemption—Burlington N. & Santa Fe Ry., FD 34634 (STB served Jan. 19, 2005).

As a condition to this exemption, any employee adversely affected by the discontinuance of service shall be protected under Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by September 22, 2017.

Because this is a discontinuance proceeding and not an abandonment proceeding, trail use/rail banking and public use conditions are not appropriate. Because environmental review is being conducted in the BNSF abandonment proceeding in Docket No. AB 6 (Sub-No. 495X), this discontinuance does not require an environmental review.

Any offer of financial assistance (OFA) under 49 CFR 1152.27(b)(2) to subsidize continued rail service will be due no later than October 2, 2017, or 10 days after service of a decision granting the petition for exemption, whichever occurs sooner. Each OFA must be accompanied by a $1,700 filing fee. See 49 CFR 1002.2(f)(25).

All filings in response to this notice must refer to Docket No. AB 1009 (Sub-No. 1X) and must be sent to: (1) Surface Transportation Board, 395 E Street SW., Washington, DC 20423-0001; and (2) Karl Morell, 440 1st Street NW., Suite 400, Washington, DC 20001. Replies to this petition are due on or before July 13, 2017.

Persons seeking further information concerning discontinuance procedures may contact the Board's Office of Public Assistance, Governmental Affairs, and Compliance at (202) 245-0238 or refer to the full abandonment and discontinuance regulations at 49 CFR pt. 1152. Assistance for the hearing impaired is available through the Federal Information Relay Service (FIRS) at 1-800-877-8339.

Board decisions and notices are available on our Web site at WWW.STB.GOV.

Decided: June 16, 2017.
By the Board, Rachel D. Campbell, Director, Office of Proceedings.
Brendetta S. Jones,
Clearance Clerk.

[FR Doc. 2017-13132 Filed 6-22-17; 8:45 am]

BILLING CODE 4915-01-P